DEPARTMENT OF TRANSPORTATION

Federal Aviation Administration

Agency Information Collection Activity Under OMB Review, Request for Comments; Approval of a New Information Collection Activity, Pilot Training and Experience With Transport Category Rudder Control Systems

AGENCY: Federal Aviation Administration (FAA), DOT.

ACTION: Notice and request for comments.

SUMMARY: The FAA invites public comments about our intention to request the Office of Management and Budget's (OMB) approval for a new information collection. The FAA has undertaken an effort to improve aviation safety by collecting data on pilots' training and experience with transport category rudder control systems. A Federal Register notice for public comment was published on April 12, 2005, vol 70, #69, page 19144.

DATES: Please submit comments by January 19, 2006.

FOR FURTHER INFORMATION CONTACT: Judy Street on (202) 267-9895.

SUPPLEMENTARY INFORMATION:

Federal Aviation Administration (FAA)

Title: Pilot Training and Experience with Transport Category Rudder Control Systems.

Type of Request: Approval of a new collection.

OMB Control Number: 2120-xxxx.

Form(s): None.

Affected Public: A total of 1,000 pilots.

Frequency: The information is conducted on a one-time basis.

Estimated Average Burden Per Response: 30 minutes.

Estimated Annual Burden Hours: An estimated 500 hours annually.

Abstract: The FAA has undertaken an effort to improve aviation safety by collecting data on pilots' training and experience with transport category rudder control systems.

ADDRESSES: Send comments to the Office of Information and Regulatory Affairs, Office of Management and Budget, 725 17th Street, NW., Washington, DC 20503, Attention FAA Desk Officer.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on December 14, 2005.
Judith D. Street,
FAA Information Collection Clearance Officer, Information Systems and Technology Services Staff, ABA-20.

[FR Doc. 05-24273 Filed 12-19-05; 8:45 am]

BILLING CODE 4910-13-M